NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before August 9, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Education, Office of Communications and Outreach (N1-441-09-6, 13 items, 3 temporary items). Master files of electronic information systems that contain applications and other records relating to agency award programs. Also included are background files relating to the awards process, including materials submitted to support applications. Proposed for permanent retention are substantive records relating to awards programs, such as the Presidential Scholars Program, the Blue Ribbon Schools Program, and similar recognition programs. Included are such records as publications, photographs and other audiovisual records relating to awards ceremonies, and lists of awardees.

2. Department of Health and Human Services, Administration for Children and Families (N1-292-09-3, 1 item, 1 temporary item). Master files of an electronic information system that contains evaluations of Head Start program grantees.

3. Department of Health and Human Services, Food and Drug Administration (N1-88-09-7, 11 items, 8 temporary items). Records relating to emergencies and incidents that are not significant, including associated data from electronic information systems; summary incident reports; records relating to events of interest that pertain to non-regulated products; and records that relate to requests for the classification of products, including an electronic tracking system. Proposed for permanent retention are such records as weekly reports of significant incidents and management files relating to significant emergencies and incidents.

4. Department of Health and Human Services, Food and Drug Administration (N1-88-09-8, 11 items, 6 temporary items). Records relating to planning and policy development, including such records as tracking files relating to strategic plans and performance plans, project case files, internal informational materials, analyses of public comments, and master files containing public comments and public comment summaries. Proposed for permanent retention are such records as strategic plans, annual performance plans, submissions to Congress and the Office of Management and Budget, and policy development documents.

5. Department of Health and Human Services, Substance Abuse and Mental Health Services Administration (N1-511-09-4, 2 items, 2 temporary items). Master files of an electronic information system that contains performance data relating to recipients of substance abuse prevention and treatment grants as well as prevention-related training course materials.

6. Department of Homeland Security, U.S. Immigration and Customs Enforcement (N1-567-09-4, 1 item, 1 temporary item). Master files of an electronic information system that contains biographical and other data used to establish relationship patterns among individuals and organizations that may be indicative of violations of customs and immigration laws or terrorist activity.

7. Department of Homeland Security, U.S. Immigration and Customs Enforcement (N1-567-10-13, 1 item, 1 temporary item). Master files of an electronic information system that contains data on non-immigrants who are in the United States for educational purposes or to participate in exchange programs. Similar information contained in a predecessor electronic system was previously approved for disposal.

8. Department of Homeland Security, U.S. Immigration and Customs Enforcement (N1-567-10-14, 2 items, 2 temporary items). Master files and statistical reports associated with an electronic information system that contains tips related to the possible exploitation of children for sexual purposes.

9. Department of Justice, Civil Division (N1-60-09-39, 2 items, 2 temporary items). Management records and Web site content relating to the Division's intranet site.

10. Department of Justice, Justice Management Division (N1-60-10-6, 4 items, 1 temporary item). Background files relating to the preparation of organization, mission and functions manuals. Copies of manuals, organization charts, and case files that relate to organizational planning are proposed for permanent retention.

11. Department of Justice, Justice Management Division (N1-60-10-18, 1 item, 1 temporary item). Case files relating to reviews of physical, information technology, personnel, and document security programs within the agency as well as programs that relate to continuity of operations and health and safety.

12. Department of Justice, Executive Office of U.S. Trustees (N1-60-09-33, 1 item, 1 temporary item). Master files of an electronic information system used to track audits of bankruptcy cases.

13. Department of Justice, Executive Office of U.S. Trustees (N1-60-09-51, 1 item, 1 temporary item). Master files of an electronic information system used to track significant events relating to bankruptcy cases.

14. Department of Justice, Federal Bureau of Investigation (N1-65-09-31, 21 items, 21 temporary items). Records, including electronic data, pertaining to the National Name Check Program. Included are records relating to such matters as requests, responses to requests, audits, quality assurance activities, operating procedures, and training.

15. Department of State, Bureau of International Information Programs (N1-59-10-8, 1 item, 1 temporary item). Information management resources files, including such records as planning documents pertaining to goals and objectives and records relating to performance measures and procedures.

16. Department of the Treasury, Departmental Offices (N1-56-10-2, 11 items, 8 temporary items). Records of the Office of the General Counsel, including such records as attorney working files, document production records, routine litigation files, and legislation files. Proposed for permanent retention are files relating to significant litigation, General Counsel memoranda and opinions, and files on significant financial transactions.

17. Department of the Treasury, Internal Revenue Service (N1-58-09-105, 2 items, 2 temporary items). Master files and documentation associated with an electronic information system used to support the work of revenue agents and specialists by managing such matters as appointments and information requests, time spent on individual cases, and other activities.

18. Department of Veterans Affairs, Veterans Benefits Administration (N1-15-10-5, 1 item, 1 temporary item). Master files of an electronic information system that contains program data concerning home loan programs.

19. Export-Import Bank of the United States, Agency-wide (N1-275-09-7, 1 item, 1 temporary item). Master files of an electronic information system used to review applications for the Bank's various financial products.

20. Export-Import Bank of the United States, Agency-wide (N1-275-09-9, 5 items, 5 temporary items). Records relating to the Bank's public Web site, including Web content and records that pertain to Web site management and operations.

21. Export-Import Bank of the United States, Agency-wide (N1-275-09-10, 1 item, 1 temporary item). Records of a Web-based electronic system that allows exporters, brokers, and financial institutions to transact business with the Bank electronically.

22. Export-Import Bank of the United States, Agency-wide (N1-275-10-1, 1 item, 1 temporary item). Master files of an electronic information system used to track, evaluate, and pay claims against the Bank's financial products.

23. Federal Maritime Commission, Bureau of Certification and Licensing (N1-358-09-2, 3 items, 3 temporary items). Reading files and subject files relating to day to day operational activities regarding the certification and licensing of ocean liners.

24. Federal Maritime Commission, Bureau of Trade Analysis (N1-358-09-8, 2 items, 2 temporary items). Master files of an electronic information system that contains data relating to the processing of carrier and marine terminal agreements and includes partial copies of the agreements.

25. Office of the Director of National Intelligence, Office of the Executive Secretary (N1-576-09-7, 7 items, 3 temporary items). Non-substantive correspondence and working papers, as well as reference material. Proposed for permanent retention are correspondence, subject files, substantive working papers, and other records of the Director, Principal Deputy, and other high officials.

26. Office of the Director of National Intelligence, National Intelligence Council (N1-576-09-8, 22 items, 7 temporary items). Facilitative files accumulated by working groups, non-substantive working papers and background files, work flow tracking systems, reference files, and other records of a routine administrative nature. Proposed for permanent retention are such records as files of the Chairman, intelligence publications, threat assessment case files, substantive working papers, National Intelligence Board records, and other records that document mission-related activities.

27. Office of the Director of National Intelligence, National Counterterrorism Center (N1-576-08-1, 18 items, 7 temporary items). Administrative records, including such files as work flow tracking systems, records documenting access to classified information, non-substantive working papers, and extra copies of issuances. Proposed for permanent retention are such records as files of the Director and immediate staff offices, finished intelligence reports and related background files, press releases, speeches, organization charts and organizational planning records, histories, and substantive working papers.

28. Small Business Administration, Office of the Chief Information Officer (N1-309-10-1, 5 items, 5 temporary items). Records relating to Business.gov, a Web site sponsored by the agency that provides information to small businesses concerning State and local licensing and permit requirements, loan and grant programs, and other matters. Included are such records as Web site content and operations records and policy and procedural records.

29. Tennessee Valley Authority, Agency-wide (N1-142-10-1, 88 items, 75 temporary items). Records including power generation and power transmission studies and analyses, energy-related contracts and related financial documentation, resource and power rate analyses and studies, equipment maintenance files, regulatory compliance records, agency management files, program and fiscal audits, litigation case files, human resource analyses and studies, human resource planning and performance measurement files, training files, budget forecasting records, budget analyses and studies, financial projections and analyses, property status and value files, facilities and equipment files, environmental assessment and mitigation records, pollution prevention and abatement files, energy conservation program management plans, safety inspections and incident reports, security procedures, public relations policies and procedures, news releases and scripts of media presentations, lab notebooks, annual reports, research reports, and research summary reports. Proposed for permanent retention are environmental and energy-related research records, empirical studies, environmental impact statements, budget and financial records, agency organization files, significant litigation case files, environmental compliance documentation, official publications, and records documenting such activities as policy development, budget development, congressional and public relations, and project management.

Dated: June 30, 2010.
Sharon Thibodeau,
Deputy Assistant Archivist for Records Services—Washington, DC.

[FR Doc. 2010-16509 Filed 7-7-10; 8:45 am]

BILLING CODE 7515-01-P